DEPARTMENT OF LABOR

Office of the Assistant Secretary for Administration and Management

Agency Information Collection Activities; Comment Request; Nondiscrimination Compliance Information Reporting Under the Workforce Investment Act of 1998

ACTION: Notice.

SUMMARY: The Department of Labor (DOL) is soliciting public comments concerning a proposed revision to the information collection request (ICR) titled, “Nondiscrimination Compliance Information Reporting Under the Workforce Investment Act of 1998.” This comment request is part of continuing Departmental efforts to reduce paperwork and respondent burden in accordance with the Paperwork Reduction Act of 1995 (PRA), 44 U.S.C. 3501 et seq.

DATES: Consideration will be given to all written public comments received by June 16, 2014.

ADDRESSES: A copy of this ICR with applicable supporting documentation; including a description of the likely respondents, proposed frequency of response, estimated total burden, and public comments received to date may be obtained free of charge by contacting Roger Ocampo by email at civilrightscenter@dol.gov; telephone at (202) 693-6500 (Voice) (not a toll free number) or (800) 877-8339 (relay); or facsimile machine (FAX) at (202) 693-6505 (not a toll-free number). The ICR can be made available, upon request, in large print or electronic file on computer disk. The ICR is also available for public inspection during normal business hours at the DOL headquarters by scheduling an appointment with the individual listed in the FOR FURTHER INFORMATION CONTACT section of this notice.

Submit written comments about this ICR to Naomi Barry-Perez, Director, Civil Rights Center, by email at civilrightscenter@dol.gov; mail or courier at U.S. Department of Labor, 200 Constitution Avenue NW., Room N-4123, Washington, DC 20210; or FAX at (202) 693-6505 (not a toll-free number). The DOL encourages comment submissions to be made via email, because the Washington, DC area continues to experience mail delivery delays. Limit comments sent by FAX to no more than five (5) pages.

FOR FURTHER INFORMATION CONTACT: Roger Ocampo by email at civilrightscenter@dol.gov or by telephone at (202) 693-6500 (Voice) (not a toll free number) or (800) 877-8339 (relay).

Authority: 44 U.S.C. 3506(c)(2)(A).

SUPPLEMENTARY INFORMATION: The DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR is for an information collection designed to ensure that programs or activities funded, in whole or in part, by the DOL operate in a nondiscriminatory manner. The reporting requirements cover programs and activities to collect, maintain, and report—upon DOL request—race, ethnicity, sex, age, and disability data for program applicants, eligible applicants, participants, terminees, applicants for employment, and employees. The DOL also provides a vehicle that allows a person to file a complaint of discriminatory activity under a DOL funded program.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1225-0077.

The DOL seeks to revise the information collection. Specifically, the DOL wants to make a minor change to the Complaint Information Form to clarify the information requested. The revised information collection will allow the DOL to carry out its responsibility to ensure nondiscrimination in programs and activities funded, in whole or in part, by the DOL. OMB authorization for an ICR cannot be for more than three (3) years without renewal, and the current approval for this collection is scheduled to expire on July 31, 2014. The DOL intends to extend PRA authorization for this information collection for three (3) years from the date OMB takes action on the revision request; therefore, the DOL invites comments on all aspects of the Nondiscrimination Compliance Information Reporting information collection.

Interested parties are encouraged to provide comments to the contact shown in the ADDRESSES section. Comments must be written to receive consideration. In order to help ensure appropriate consideration, comments should mention Control Number 1225-0077. A commenter may request oral confirmation that a submission has been received by contacting the individual listed in the FOR FURTHER INFORMATION CONTACT section of this notice. No other method will be used to acknowledge the receipt of a comment.

Comments submitted in response to this notice will be a matter of the public record for this ICR and posted on the Internet, without redaction. The DOL will not honor any request to the contrary for a comment submitted in response to this notice. The DOL encourages commenters not to include sensitive personal information (e.g., a social security number), confidential business data (e.g., a bank account or other financial institution number or trade secret), or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OASAM, CRC.

Type of Review: Revision.

Title of Collection: Nondiscrimination Compliance Information Reporting Under the Workforce Investment Act of 1998.

OMB Control Number: 1225-0077.

Affected Public: State, Local, and Tribal Governments; Individuals or Households; and Private Sector—businesses or other for-profits and not-for-profit institutions.

Estimated Number of Respondents: 1,885.

Frequency: Varies.

Total Estimated Annual Responses: 32,043,281.

Estimated Average Time per Response: 20 seconds to 15 minutes.

Estimated Total Annual Burden Hours: 248,461 hours.

Total Estimated Annual Other Cost Burden: $0.

Dated: April 11, 2014.
Michel Smyth,
Departmental Clearance Officer.

[FR Doc. 2014-08731 Filed 4-16-14; 8:45 am]

BILLING CODE 4510-23-P